DEPARTMENT OF COMMERCE

National Oceanic and Atmospheric Administration

RIN 0648-XG367

NOAA's Implementation of the Department of Commerce 2018-2022 Strategic Plan; Public Meetings

AGENCY: National Oceanic and Atmospheric Administration (NOAA), Commerce.

ACTION: Notice of public meeting.

SUMMARY: The Office of Under Secretary of Commerce (USEC) for Oceans and Atmosphere is holding multiple listening sessions to provide information and receive stakeholder input regarding implementation of the Department of Commerce's 2018-2022 Strategic Plan. Focal topics will be implementation of the Weather Research and Forecasting Innovation Act of 2017, reducing the seafood trade deficit, supporting maritime commerce, fisheries, recreation and tourism. The listening sessions will include presentations and time for stakeholder input into the development of priority objectives. The meeting topics are described under the SUPPLEMENTARY INFORMATION section of the notice.

DATES: The meetings will be held between August and November 2018. For specific dates and times, see SUPPLEMENTARY INFORMATION.

ADDRESSES: Meeting address: The meetings will be held in Norman, OK; Juneau, AK; St. Petersburg, FL; Madison, WI; Charleston, SC; Seattle, WA; San Diego, CA and Durham, NC. For specific locations, see SUPPLEMENTARY INFORMATION.

FOR FURTHER INFORMATION CONTACT: Julie Kay Roberts, Director of Communications, National Oceanic and Atmospheric Administration; telephone: 202-482-6090.

SUPPLEMENTARY INFORMATION: The National Oceanic and Atmospheric Administration (NOAA) has several initiatives underway to support the Department of Commerce (DOC) 2018-2022 Strategic Plan. NOAA will address the priority of reducing extreme weather impacts through the implementation of the Weather Research and Forecasting Innovation Act (Act). Among other requirements, the Act directs NOAA to improve seasonal and sub-seasonal forecasts, an area of forecasting that presents significant opportunity for improvement. NOAA is also interested in ideas to expand marine aquaculture across the United States as a means of creating quality jobs in coastal communities and reducing the seafood trade deficit. Other aspects to support domestic fisheries include reducing regulatory burden for wild-caught fisheries, implementing and enforcing recent regulations that establish minimum standards for imported seafood, and increasing foreign market access for U.S. seafood products. NOAA is also interested in pursuing efforts to support commerce through expanding precision maritime navigation products, ecotourism through the National Marine Sanctuaries Program, and harnessing the deep sea through ocean exploration. NOAA also intends to re-energize the National Oceanographic Partnership Program—a federal program that facilitates public-private partnerships to fund marine research.

For the listening sessions, the Office of Under Secretary of Commerce (USEC) for Oceans and Atmosphere will present background on these ideas and solicit comment from stakeholders. The focus of each public meeting and structure of public comment will be at the discretion of the presenters and NOAA staff. The USEC schedule, location, and agenda for the following eight meetings are as follows with exact times and locations to be released at least 14 days in advance of the events at http://www.noaa.gov/stories/noaa-starts-nationwide-listening-sessions:

Meetings: Schedule, Location, and Agenda

1. Thursday, August 30, Norman, OK

Agenda: To discuss implementation of The Weather Act, including the development of a community-based weather model.

2. Friday, August 31, Juneau, Alaska

Agenda: To discuss opportunities to reduce the nation's seafood trade deficit, and promote marine commerce and tourism.

3. Monday, September 10, St. Petersburg, Florida

Agenda: To discuss advancing commercial and recreational fisheries, technology development and tourism.

4. Wednesday, September 12, Madison, Wisconsin

Agenda: To discuss implementation of The Weather Act, including the development of a community-based weather model.

5. Thursday, October 4, Seattle, Washington

Agenda: To discuss implementation of The Weather Act, including the development of a community-based weather model.

6. Tuesday, October 23, Charleston, SC

Agenda: To discuss opportunities to improve the efficiency of U.S. ports, reduce the seafood trade deficit, and expand exploration of the nation's Exclusive Economic Zone.

7. Thursday, November 1, Durham, NC

Agenda: To discuss implementation of The Weather Act, including the development of a community-based weather model, opportunities to reduce the nation's seafood trade deficit, and ocean exploration.

8. Friday, November 9, San Diego, California

Agenda: To discuss opportunities to improve the efficiency of U.S. ports, promote domestic aquaculture production, and expand exploration of the nation's Exclusive Economic Zone.

Special Accommodations

These meetings are physically accessible to people with disabilities. Requests for sign language interpretation or other auxiliary aids should be directed to Julie Kay Roberts; 202-482-6090, at least 10 working days prior to the meeting date.

Authority: 15 U.S.C. 8501 et seq.

Dated: July 20, 2018.
Tim Gallaudet,
Assistant Secretary of Commerce for Oceans and Atmosphere and Acting Under Secretary of Commerce for Oceans and Atmosphere, National Oceanic and Atmospheric Administration.

[FR Doc. 2018-15937 Filed 7-24-18; 8:45 am]

BILLING CODE 3510-12-P